PRESIDIO TRUST

Notice of Receipt of and Availability for Public Comment on an Application for Wireless Telecommunications Facilities Site; The Presidio of San Francisco, California

AGENCY: The Presidio Trust.

ACTION: Public notice.

SUMMARY: This notice announces the Presidio Trust's receipt of and availability for public comment on an application from Bay Area Cellular Telephone Company, dba Cellular One, for a wireless telecommunications facilities site in The Presidio of San Francisco (the “Project”). The proposed location of the Project is in the parking area located directly below the Doyle Drive overpass in the vicinity of the intersection of Halleck and Vallejo Streets, San Francisco, California (the “Project Site”).

The Project involves (i) placing a single utility pole and a one-story equipment building at the Project Site (alternatively, the equipment may be housed in an existing building, obviating the need for an equipment building), and (ii) removing five existing utility poles and lines, burying the lines underground. The utility pole will be approximately 50 feet tall. The one-story equipment building will be 9 feet by 15 feet. Power for the Project will be provided through underground coaxial cables connected to existing power sources. Connection to telephone lines will be through existing telephone lines.

Comments: Comments on the proposed Project must be sent to Devon Danz, Presidio Trust, 34 Graham Street, PO Box 29052, San Francisco, CA 94129-0052, and be received by June 7, 2000. A copy of Cellular One's application is available upon request to the Presidio Trust.

FOR FURTHER INFORMATION CONTACT: Devon Danz, Presidio Trust, 34 Graham Street, PO Box 29052, San Francisco, CA 94129-0052. Telephone: 415-561-5300.

Dated: May 2, 2000.
Karen A. Cook,
General Counsel.

[FR Doc. 00-11384 Filed 5-5-00; 8:45 am]

BILLING CODE 4310-4R-P